NATIONAL TRANSPORTATION SAFETY BOARD

Sunshine Act Meeting

Time and Place: April 18, 2006.

Place: NTSB Conference Center, 429 L'Enfant Plaza, SW., Washington, DC 20594.

Status: The one item is open to the public.

Matters To Be Considered:

7776—Highway Accident Report

Multivehicle Collision on Interstate 90, Hampshire-Marengo Toll Plaza, Near Hampshire, Illinois, October 1, 2003.

News/Press Media Contact: Ted Lopatkiewicz Telephone: (202) 314-6100.

Individuals requesting specific accommodations should contact Chris Bisett at (202) 314-6305 by Friday, April 14, 2006.

The public may view the meeting via a live or archived webcast by accessing a link under “News & Events” on the NTSB home page at www.ntsb.gov.

FOR FURTHER INFORMATION CONTACT: Vicky D'Onofrio, (202) 314-6410.

Dated: April 7, 2006.
Vicky D'Onofrio,
Federal Register Liaison Officer.

[FR Doc. 06-3501 Filed 4-7-06; 1:44 pm]

BILLING CODE 7533-01-M